DEPARTMENT OF HOMELAND SECURITY

[Docket No. DHS-2014-0005]

1670-0023 Technical Assistance Request and Evaluation; Correction

AGENCY: National Protection and Programs Directorate, DHS.

ACTION: Notice; correction.

SUMMARY: The Department of Homeland Security published a document in the Federal Register of July 2, 2015, concerning request for comments for reinstatement of previously approved collection. The document contained an incorrect date.

FOR FURTHER INFORMATION CONTACT: Kendall Carpenter, 703-235-4087.

Correction

In the Federal Register of July 2, 2015, in FR Doc. 2015-16387, on page 38222, in the second column, correct the date under the DATES and ADDRESSES captions to read:

DATES: Comments are encouraged and will be accepted until August 3, 2015.

ADDRESSES: Written comments should reach the contact person listed no later than August 3, 2015.

Dated: July 13, 2015.
Kendall Carpenter,
Telecommunications Specialist.

[FR Doc. 2015-18582 Filed 7-28-15; 8:45 am]

BILLING CODE 9110-9P-P